DEPARTMENT OF ENERGY

10 CFR Part 431

[EERE-2022-BT-STD-0023]

RIN 1904-AF44

Energy Conservation Program: Energy Conservation Standards for Metal Halide Lamp Fixtures

AGENCY: Office of Energy Efficiency and Renewable Energy, Department of Energy.

ACTION: Notification of proposed determination and request for comment.

SUMMARY: The Energy Policy and Conservation Act, as amended (“EPCA”), prescribes energy conservation standards for various consumer products and certain commercial and industrial equipment, including metal halide lamp fixtures (“MHLFs”). EPCA also requires the U.S. Department of Energy (“DOE”) to periodically determine whether more-stringent, amended standards would be technologically feasible and economically justified, and would result in significant energy savings. In this notification of proposed determination (“NOPD”), DOE has initially determined that amended energy conservation standards for MHLFs would not be cost effective. DOE requests comment on this proposed determination and the associated analyses and results.

DATES:

Meeting: DOE will hold a public webinar upon request. Please request a public webinar no later than October 17, 2023. See section VI, “Public Participation,” for webinar registration information, participant instructions, and information about the capabilities available to webinar participants.

Comments: Written comments and information are requested and will be accepted on or before December 4, 2023.

ADDRESSES: Interested persons are encouraged to submit comments using the Federal eRulemaking Portal at www.regulations.gov under docket number EERE-2022-BT-STD-0023. Follow the instructions for submitting comments.

Alternatively, interested persons may submit comments, identified by docket number EERE-2022-BT-STD-0023, by any of the following methods:

(1) Email: MHLF2022STD0023@ee.doe.gov. Include the docket number EERE-2022-BT-STD-0023 in the subject line of the message.

(2) Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

(3) Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimiles (“faxes”) will be accepted. For detailed instructions on submitting comments and additional information on this process, see section VI of this document.

Docket: The docket, which includes Federal Register notices, public meeting attendee lists and transcripts (if one is held), comments, and other supporting documents/materials, is available for review at www.regulations.gov. All documents in the docket are listed in the www.regulations.gov index. However, not all documents listed in the index may be publicly available, such as information that is exempt from public disclosure.

The docket web page can be found at www.regulations.gov/docket/EERE-2022-BT-STD-0023. The docket web page contains instructions on how to access all documents, including public comments, in the docket. See section VI, “Public Participation,” for further information on how to submit comments through www.regulations.gov.

FOR FURTHER INFORMATION CONTACT:

Mr. Bryan Berringer, U.S. Department of Energy, Office of Energy Efficiency and Renewable Energy, Building Technologies Office, EE-5B, 1000 Independence Avenue SW, Washington, DC 20585-0121. Email: ApplianceStandardsQuestions@ee.doe.gov.

Ms. Kathryn McIntosh, U.S. Department of Energy, Office of the General Counsel, GC-33, 1000 Independence Avenue SW, Washington, DC 20585-0121. Telephone: (202) 586-2002. Email: Kathryn.McIntosh@hq.doe.gov.

For further information on how to submit a comment or review other public comments and the docket contact the Appliance and Equipment Standards Program staff at (202) 287-1445 or by email: ApplianceStandardsQuestions@ee.doe.gov.

SUPPLEMENTARY INFORMATION:

Table of Contents

I. Synopsis of the Proposed Determination

II. Introduction

A. Authority

B. Background

1. Current Standards

2. History of Standards Rulemakings for Metal Halide Lamp Fixtures

C. Deviation from Appendix A

III. Rationale of Analysis and Discussion of Related Comments

A. Scope of Coverage

B. Technology Options and Screening Analysis

C. Efficiency Levels

D. Scaling Equipment Classes

E. Shipments

F. Manufacturer Impacts

IV. Proposed Determination

A. Technological Feasibility

B. Cost Effectiveness

C. Significant Conservation of Energy

D. Summary

V. Procedural Issues and Regulatory Review

A. Review Under Executive Orders 12866, 13563, and 14094

B. Review Under the Regulatory Flexibility Act

C. Review Under the Paperwork Reduction Act

D. Review Under the National Environmental Policy Act of 1969

E. Review Under Executive Order 13132

F. Review Under Executive Order 12988

G. Review Under the Unfunded Mandates Reform Act of 1995

H. Review Under the Treasury and General Government Appropriations Act, 1999

I. Review Under Executive Order 12630

J. Review Under the Treasury and General Government Appropriations Act, 2001

K. Review Under Executive Order 13211

L. Review Under the Information Quality Bulletin for Peer Review

VI. Public Participation

A. Participation in the Webinar

B. Procedure for Submitting Prepared General Statements for Distribution

C. Conduct of the Webinar

D. Submission of Comments

E. Issues on Which DOE Seeks Comment

VII. Approval of the Office of the Secretary

I. Synopsis of the Proposed Determination

The Energy Policy and Conservation Act, Pub. L. 94-163, as amended (“EPCA”),¹ authorizes DOE to regulate the energy efficiency of a number of consumer products and certain industrial equipment. (42 U.S.C. 6291-6317) Title III, Part B of EPCA ² established the Energy Conservation Program for Consumer Products Other Than Automobiles. (42 U.S.C. 6291-6309) These products include metal halide lamp fixtures (“MHLFs”), the subject of this NOPD. (42 U.S.C. 6292(a)(19)) ³

¹ All references to EPCA in this document refer to the statute as amended through the Energy Act of 2020, Public Law 116-260 (Dec. 27, 2020), which reflect the last statutory amendments that impact Parts A and A-1 of EPCA.

² For editorial reasons, upon codification in the U.S. Code, Part B was redesignated Part A.

³ DOE notes that because of the codification of the MHLF provisions in 42 U.S.C. 6295, MHLF energy conservation standards and the associated test procedures are subject to the requirements of the consumer products provisions of Part B of Title III of EPCA. However, because MHLFs are generally considered to be commercial equipment, DOE established the requirements for MHLFs in 10 Code of Federal Regulations (“CFR”) part 431 (“Energy Efficiency Program for Certain Commercial and Industrial Equipment”) for ease of reference. DOE notes that the location of the provisions within the CFR does not affect either the substance or applicable procedure for MHLFs. Based upon their placement into 10 CFR part 431, MHLFs are referred to as “equipment” throughout this document, although covered by the consumer product provisions of EPCA.

DOE is issuing this NOPD pursuant to the EPCA requirement that not later than 3 years after issuance of a determination that standards do not need to be amended, DOE must publish either a notification of determination that standards for the product do not need to be amended, or a notice of proposed rulemaking (“NOPR”) including new proposed energy conservation standards (proceeding to a final rule, as appropriate). (42 U.S.C. 6295(m))

For this proposed determination, DOE analyzed MHLFs that meet the definition of an MHLF in 10 CFR 431.322. DOE first analyzed the technological feasibility of more energy efficient MHLFs. For those MHLFs for which DOE determined higher standards to be technologically feasible, DOE evaluated whether higher standards would be cost effective. DOE has tentatively determined that the market and technology characteristics of MHLFs are largely similar to those analyzed in the previous rulemaking, which concluded with the publication of a final rule determining not to amend standards. 86 FR 58763 (October 25, 2021) (“October 2021 Final Determination”). Therefore, DOE has tentatively determined that the conclusions reached in the October 2021 Final Determination regarding the benefits and burdens of more stringent standards for MHLFs are still relevant to the MHLF market today. Hence, DOE has tentatively determined that the amended standards for MHLFs would not be cost effective.

II. Introduction

The following section briefly discusses the statutory authority underlying this proposed determination, as well as some of the historical background relevant to the establishment of standards for MHLFs.

A. Authority

EPCA authorizes DOE to regulate the energy efficiency of a number of consumer products and certain industrial equipment. Title III, Part B of EPCA established the Energy Conservation Program for Consumer Products Other Than Automobiles. These products include MHLFs, the subject of this document. (42 U.S.C. 6292(a)(19)) EPCA prescribed initial energy conservation standards for these products (42 U.S.C. 6295(hh)(1)) and directed DOE to conduct two cycles of rulemakings to determine whether to amend these standards (42 U.S.C. 6295(hh)(2)(A) and (3)(A)).

The energy conservation program under EPCA consists essentially of four parts: (1) testing, (2) labeling, (3) the establishment of Federal energy conservation standards, and (4) certification and enforcement procedures. Relevant provisions of EPCA specifically include definitions (42 U.S.C. 6291), test procedures (42 U.S.C. 6293), labeling provisions (42 U.S.C. 6294), energy conservation standards (42 U.S.C. 6295), and the authority to require information and reports from manufacturers (42 U.S.C. 6296).

Subject to certain criteria and conditions, DOE is required to develop test procedures to measure the energy efficiency, energy use, or estimated annual operating cost of each covered product. (42 U.S.C. 6295(o)(3)(A) and 42 U.S.C. 6295(r)) Manufacturers of covered products must use the prescribed DOE test procedure as the basis for certifying to DOE that their products comply with the applicable energy conservation standards adopted under EPCA and when making representations to the public regarding the energy use or efficiency of those products. (42 U.S.C. 6293(c) and 42 U.S.C. 6295(s)) Similarly, DOE must use these test procedures to determine whether the products comply with standards adopted pursuant to EPCA. (42 U.S.C. 6295(s)) The DOE test procedures for MHLFs appear at title 10 of the Code of Federal Regulations (“CFR”) part 431, subpart S at § 431.324.

Federal energy conservation requirements generally supersede State laws or regulations concerning energy conservation testing, labeling, and standards. (42 U.S.C. 6297(a)-(c)) DOE may, however, grant waivers of Federal preemption for particular State laws or regulations, in accordance with the procedures and other provisions set forth under EPCA. (See 42 U.S.C. 6297(d))

Pursuant to the amendments contained in the Energy Independence and Security Act of 2007 (“EISA 2007”), Public Law 110-140, any final rule for new or amended energy conservation standards promulgated after July 1, 2010, is required to address standby mode and off mode energy use. (42 U.S.C. 6295(gg)(3)) Specifically, when DOE adopts a standard for a covered product after that date, it must, if justified by the criteria for adoption of standards under EPCA (42 U.S.C. 6295(o)), incorporate standby mode and off mode energy use into a single standard, or, if that is not feasible, adopt a separate standard for such energy use for that product. (42 U.S.C. 6295(gg)(3)(A)-(B)) In this analysis DOE considers only active mode energy consumption as standby and off mode energy use are not applicable to MHLFs at this time.

DOE must periodically review its already established energy conservation standards for a covered product no later than 6 years from the issuance of a final rule establishing or amending a standard for a covered product. (42 U.S.C. 6295(m)) This 6-year look-back provision requires that DOE publish either a determination that standards do not need to be amended or a NOPR, including new proposed standards (proceeding to a final rule, as appropriate). (42 U.S.C. 6295(m)(1)) EPCA further provides that, not later than 3 years after the issuance of a final determination not to amend standards, DOE must publish either a notification of determination that standards for the product do not need to be amended, or a NOPR including new proposed energy conservation standards (proceeding to a final rule, as appropriate). (42 U.S.C. 6295(m)(3)(B)) DOE must make the analysis on which a determination is based publicly available and provide an opportunity for written comment. (42 U.S.C. 6295(m)(2))

A determination that amended standards are not needed must be based on consideration of whether amended standards will result in significant conservation of energy, are technologically feasible, and are cost effective. (42 U.S.C. 6295(m)(1)(A) and 42 U.S.C. 6295(n)(2)) Additionally, any new or amended energy conservation standard prescribed by the Secretary for any type (or class) of covered product shall be designed to achieve the maximum improvement in energy efficiency which the Secretary determines is technologically feasible and economically justified. (42 U.S.C. 6295(o)(2)(A)) Among the factors DOE considers in evaluating whether a proposed standard level is economically justified includes whether the proposed standard at that level is cost-effective, as defined under 42 U.S.C. 6295(o)(2)(B)(i)(II). Under 42 U.S.C. 6295(o)(2)(B)(i)(II), an evaluation of cost-effectiveness requires DOE to consider savings in operating costs throughout the estimated average life of the covered products in the type (or class) compared to any increase in the price, initial charges, or maintenance expenses for the covered products that are likely to result from the standard. (42 U.S.C. 6295(n)(2); 42 U.S.C. 6295(o)(2)(B)(i)(II)) DOE is publishing this NOPD in satisfaction of the 3-year review requirement in EPCA following a determination that standards need not be amended.

B. Background

1. Current Standards

Current standards for MHLFs manufactured on or after February 10, 2017, are set forth in DOE's regulations at 10 CFR 431.326 and are specified in Table II.1. 10 CFR 431.326(c). Additionally, it is specified at 10 CFR 431.326 that MHLFs manufactured on or after February 10, 2017, that operate lamps with rated wattage >500 watts (“W”) to ≤1000W must not contain a probe-start metal halide ballast. 10 CFR 431.326(d). The following MHLFs are not subject to these regulations: (1) MHLFs with regulated-lag ballasts; (2) MHLFs that use electronic ballasts that operate at 480 volts; and (3) MHLFs that use high-frequency electronic ballasts. 10 CFR 431.326(e).

Table II.1—Federal Energy Conservation Standards for MHLFs
Designed to be operated with lamps of the following rated lamp wattage | Tested input voltage * | Minimum standard equation * (%)
≥50W and ≤100W | 480 V | (1/(1 + 1.24 × P ^ (− 0.351)))−0.020 **.
≥50W and ≤100W | All others | 1/( 1 + 1.24 × P ^ (− 0.351)).
>100W and <150W † | 480 V | (1/(1 + 1.24 × P ^ (− 0.351)))−0.020.
>100W and <150W † | All others | 1/(1 + 1.24 × P ^ (− 0.351)).
≥150W ‡ and ≤250W | 480 V | 0.880.
≥150W ‡ and ≤250W | All others | For ≥150W and ≤200W: 0.880. For >200W and ≤250W: 1/(1 + 0.876 × P^(− 0.351)).
>250W and ≤500W | 480 V | For >250W and <265W: 0.880. For ≥265W and ≤500W: (1/(1 + 0.876 × P ^ (− 0.351)))−0.010.
>250W and ≤500W | All others | 1/(1 + 0.876 × P ^ (− 0.351)).
>500W and ≤1,000W | 480 V | >500W and ≤750W: 0.900. >750W and ≤1,000W: 0.000104 × P + 0.822 For >500W and ≤1,000W: may not utilize a probe-start ballast.
>500W and ≤1,000W | All others | For >500W and ≤750W: 0.910. For >750W and ≤1,000W: 0.000104 × P + 0.832. For >500W and ≤1,000W: may not utilize a probe-start ballast.
* Tested input voltage is specified in 10 CFR 431.324.
** P is defined as the rated wattage of the lamp the fixture is designed to operate.
† Includes 150W fixtures specified in paragraph (b)(3) of 10 CFR 431.326, that are fixtures rated only for 150W lamps; rated for use in wet locations, as specified by the National Fire Protection Association (“NFPA”) 70, section 410.4(A); and containing a ballast that is rated to operate at ambient air temperatures above 50 °C, as specified by Underwriters Laboratory (“UL”) 1029.
‡ Excludes 150W fixtures specified in paragraph (b)(3) of 10 CFR 431.326, that are fixtures rated only for 150W lamps; rated for use in wet locations, as specified by the NFPA 70, section 410.4(A); and containing a ballast that is rated to operate at ambient air temperatures above 50 °C, as specified by UL 1029.

2. History of Standards Rulemakings for Metal Halide Lamp Fixtures

As noted in section II.A of this document, EPCA directed DOE to conduct two rulemaking cycles to determine whether to amend standards for MHLFs established by EPCA. (42 U.S.C. 6295(hh)(2)(A) and (3)(A)) DOE published a final rule amending the standards on February 10, 2014 (“February 2014 Final Rule”). 79 FR 7746. These current standards are set forth in DOE's regulations at 10 CFR 431.326 and are specified in section II.B.1 and Table II.1 of this document. DOE completed the second rulemaking by publishing a final rule on October 25, 2021, that determined not to amend current standards for MHLFs. 86 FR 58763.

In support of the present review of the MHLF energy conservation standards, on October 6, 2022, DOE published a request for information (“RFI”), which identified various issues on which DOE sought comment to inform its determination of whether the standards need to be amended. 87 FR 60555 (“October 2022 RFI”).

DOE received two comments in response to the October 2022 RFI from the interested parties listed in Table II.2.

Table II.2—October 2022 RFI Written Comments
Commenter(s) | Reference in this NOPD | Comment No. in the docket | Commenter type
National Electrical Manufacturers Association (“NEMA”) | NEMA | 2 | Trade Association.
Signify | Signify | 3 | Manufacturer.

A parenthetical reference at the end of a comment quotation or paraphrase provides the location of the item in the public record.⁴

⁴ The parenthetical reference provides a reference for information located in the docket. (Docket No. EERE-2022-BT-STD-0023, which is maintained at www.regulations.gov). The references are arranged as follows: (commenter name, comment docket ID number, page of that document).

C. Deviation From Appendix A

In accordance with section 3(a) of 10 CFR part 430, subpart C, appendix A (“appendix A”), DOE notes that it is deviating from the provision in the appendix A regarding the NOPR stage for an energy conservation standards rulemaking.

Section 6(f)(2) of the appendix A specifies that the length of the public comment period for a NOPR will be not less than 75 calendar days. For this NOPD, DOE has opted instead to provide a 60-day comment period, as required by EPCA. 42 U.S.C. 6295(p). DOE is opting to deviate from the 75-day comment period because stakeholders have already been afforded an opportunity to provide comments on this rulemaking. As noted previously, DOE requested comment on various issues pertaining to this standards rulemaking in the October 2022 RFI and provided stakeholders with a 60-day comment period. 87 FR 60555. Further stakeholders had been made familiar with the methodologies and information presented in the October 2022 RFI as they were based on the analysis conducted for the October 2021 Final Determination. 87 FR 60555, 60558. Therefore, DOE believes a 60-day comment period is appropriate and will provide interested parties with a meaningful opportunity to comment on the proposed determination.

III. Rationale of Analysis and Discussion of Related Comments

In response to the October 2022 RFI, NEMA stated that the October 2021 Final Determination is a recent analysis that correctly determined energy conservation standards for MHLFs do not need to be amended because they are not economically justified. NEMA further stated that declining market volume and the mature nature of the technology do not warrant or support additional rulemakings for MHLFs. (NEMA, No. 2 at p. 1)

For this review of MHLF standards, DOE has tentatively determined that, since the October 2021 Final Determination analysis, there has been no substantial change in (1) product offerings of MHLFs to warrant a change in scope of analysis or equipment classes, (2) technologies or design options that could improve the energy efficiency of MHLFs, (3) manufacturers and industry structure, (4) shipments, (5) operating hours, and (6) market and industry trends. Further DOE did not receive any comments in response to the October 2022 RFI indicating technological or market changes for MHLFs. As such, DOE has tentatively determined that the analysis conducted for the October 2021 Final Determination and its conclusion that amended energy conservation standards for MHLFs would not be cost effective remains valid. DOE requests comments on its tentative conclusion that because no substantive changes have occurred in the market and technology of MHLFs, the conclusion of the October 2021 Final Determination that amending MHLF standards is not cost effective remains valid.

The following sections discuss the status of the current MHLF market as well as issues raised in comments received in response to the October 2022 RFI.

A. Scope of Coverage

In this analysis, MHLF is defined as a light fixture for general lighting application designed to be operated with a metal halide lamp and a ballast for a metal halide lamp. 42 U.S.C. 6291(64); 10 CFR 431.322. Any equipment meeting the definition of MHLF is included in DOE's scope of coverage, though all products within the scope of coverage may not be subject to standards.

B. Technology Options and Screening Analysis

In the October 2022 RFI DOE presented technology options for MHLFs considered in the October 2021 Final Determination. 87 FR 60555, 60560. NEMA commented that technology options identified by DOE in the October 2022 RFI have already been designed to achieve maximum efficiencies based on existing standards and no new resources will be invested in these technologies due to continual decrease in product demand. (NEMA, No. 2 at pp. 1-2) NEMA also stated that more efficient products would require a different form factor. Additionally, NEMA stated that end-users are not asking for additional features or design options for MHLFs and current demand is in the form of repair, replacement, and maintenance. (NEMA, No. 2 at p. 4)

In the October 2021 Final Determination, DOE identified technology options that improve the efficiency of MHLFs. DOE then identified design options by screening out technology options that do not meet five screening criteria outlined in Sections 6(c)(3) and 7(b) of appendix A.⁵ 86 FR 58763, 58770-58771. DOE has not found any new information or data that indicates that those technology options and resulting design options are no longer valid means for manufacturers to improve the efficiency of MHLFs nor has DOE identified any new technologies not included in the previous rulemaking that may improve the efficiency of MHLFs. Therefore, in this NOPD, DOE continues to consider only the design options identified in the October 2021 Final Determination.

⁵ The five screening criteria are: (1) Technological feasibility. Technologies that are not incorporated in commercial products or in working prototypes will not be considered further; (2) Practicability to manufacture, install, and service. If it is determined that mass production and reliable installation and servicing of a technology in commercial products could not be achieved on the scale necessary to serve the relevant market at the time of the projected compliance date of the standard, then that technology will not be considered further; (3) Impacts on product utility or product availability. If it is determined that a technology would have significant adverse impact on the utility of the product to significant subgroups of consumers or would result in the unavailability of any covered product type with performance characteristics (including reliability), features, sizes, capacities, and volumes that are substantially the same as products generally available in the United States at the time, it will not be considered further; (4) Adverse impacts on health or safety. If it is determined that a technology would have significant adverse impacts on health or safety, it will not be considered further; (5) Unique-Pathway Proprietary Technologies. If a design option utilizes proprietary technology that represents a unique pathway to achieving a given efficiency level, that technology will not be considered further due to the potential for monopolistic concerns. (See 10 CFR part 430, subpart C, appendix A, sections 6(b)(3) and 7(b))

C. Efficiency Levels

In a rulemaking analysis DOE conducts an engineering analysis to establish the relationship between the efficiency and cost of a MHLF. There are two elements to consider in the engineering analysis; the selection of efficiency levels (“ELs”) to analyze (i.e., the “efficiency analysis”) and the determination of product cost at each efficiency level (i.e., the “cost analysis”). In determining the performance of higher-efficiency MHLFs, DOE considers technologies and design option combinations not eliminated by the screening analysis. For each equipment class, DOE estimates the baseline cost, as well as the incremental cost for the equipment at efficiency levels above the baseline. The output of the engineering analysis is a set of cost-efficiency “curves” that are used in downstream analyses (i.e., the life cycle cost (“LCC”) and payback period (“PBP”) analyses and the national impact analysis (“NIA”)).

In the October 2022 RFI, DOE presented the maximum technologically feasible (“max-tech”) efficiency levels identified in the October 2021 Final Determination. 87 FR 60555, 60562. NEMA commented that the max-tech efficiency levels presented in the October 2022 RFI are not technically feasible without extended research. Further, NEMA stated that the max-tech efficiency levels presented in the October 2022 RFI for metal halide (“MH”) ballasts between 100 and 150W would be cost prohibitive relative to low customer demand. (NEMA, No. 2 at pp. 2-3)

In the October 2021 Final Determination, DOE used the ballast efficiency values from DOE's compliance certification database (“CCD”) to identify more efficient ballasts for all equipment classes except for the >1,000W and ≤2,000W equipment class, which does not have certification data available. For this equipment class, DOE determined ballast efficiency values by first gathering and analyzing catalog data. DOE then tested the ballasts to verify the ballast efficiency reported by the manufacturer. For instances where the catalog data did not align with the tested data, DOE selected more-efficient ballasts based on the tested ballast efficiency. 86 FR 58763, 58733. Because the max-tech efficiency levels identified in the October 2021 Final Determination were based on commercially available products, DOE found them to be technically feasible in the October 2021 Final Determination and continues to do so in this analysis. 86 FR 58763, 58791.

As noted, in the October 2021 Final Determination, DOE identified ELs for each representative equipment class (i.e., equipment classes directly analyzed) based on MHLFs certified in the CCD at the time of the analysis. For this analysis, DOE assessed the MHLFs currently in the CCD and reviewed current catalog data for those MH ballasts not in the CCD (i.e., MH ballasts designed to operate lamps with rated wattages >1000W and ≤2000W) and reviewed efficiencies of MHLFs representative of the ELs identified in the October 2021 Final Determination. For the ≥50W and ≤100W equipment class, DOE found that the ballast efficiency of the MHLF representative of the max-tech level, EL 3 had been recorded incorrectly in the October 2021 Final Determination and should have been 0.907 rather than 0.901. 86 FR 58763, 58774. However, a slight change (less than 1 percent) to the ballast efficiency would not have a substantial impact to the cost efficiency of this EL, which resulted in negative LCC savings of more than $60 in the October 2021 Final Determination with more than 70 percent of consumers experiencing a net cost. Further, on average, compared to a purchase at the baseline, the increased purchase price at this EL was never recovered by a reduction in operating costs. DOE has tentatively concluded that this change is not substantive enough to result in any significant impact to the cost effectiveness for this equipment class.

Signify commented that, in the previous analysis, DOE cited ballast catalogs, suggesting that MH ballasts operating in the 2000W range are less efficient than ballasts operating in the 1000W range, but research journals and engineering manuals report the opposite trend, that energy efficiency with a magnetic transformer or magnetic ballast increases along with the transformer power rate (Vecchio et al., 2017). Signify stated that it would expect MH ballasts to follow this trend. Signify commented that MH ballasts that operate lamps in the wattage range of >1000W and ≤2000W are not currently subject to DOE's MHLF standards, and, as a result, manufacturers have had no incentive to use a high-efficiency ballast in this range, which may explain why DOE has seen commercially available products not follow the expected trend. Signify proposed that DOE set an energy efficiency standard for MHLFs that includes MH ballasts that operate lamps with wattages in the range of >1000W and ≤2000W and provided the following corresponding efficiency level equation reflecting a trend of increasing efficiency with lamp power: 0.00001*rated wattage of lamp + 0.928. (Signify, No. 3 at pp. 1-4)

In the October 2021 Final Determination DOE determined the appropriate equation for the >1000W and ≤2000W equipment class to be −0.000008*rated wattage of lamp + 0.946 which resulted in an efficiency of 93.7 percent for the 1500W representative lamp wattage analyzed. 86 FR 58763, 58774, 58776. Signify's proposed equation would result in an efficiency of 94.3 percent for the 1500W representative lamp wattage. For this analysis, DOE reviewed catalog data for MHLFs in the >1000W and ≤2000W equipment class and identified a MH ballast with a catalog ballast efficiency of 96.8 percent, which is higher than the 93.7 percent efficiency representative of the max-tech level, EL 1 (for the 1500W representative lamp wattage) identified in the October 2021 Final Determination. However, DOE chose not to test this product to confirm the catalog ballast efficiency, as its analysis would not change the conclusions reached in the October 2021 Final Determination. Even if the increase in ballast efficiency could result in positive life cycle cost savings for this equipment class, the energy savings for the nation, which were estimated as less than 0.000001 quads for this equipment class in the October 2021 Final Determination, would be close to zero due to the low market share for this equipment class and declining shipments for MHLFs (see section III.E of this document).

Hence, DOE's review of the CCD and catalog data found no changes in product offerings or efficiencies for MHLFs that would affect the conclusions from the October 2021 Final Determination. Therefore, DOE has tentatively determined that the conclusions in the October 2021 Final Determination remain valid.

D. Scaling Equipment Classes

EPCA requires DOE to specify a different standard level for a type or class of product that has the same function or intended use, if DOE determines that products within such group: (1) consume a different kind of energy; or (2) have a capacity or other performance-related feature which other products within such type (or class) do not have and such feature justifies a higher or lower standard. (42 U.S.C. 6295(q)(1)) DOE selects certain equipment classes as “representative” to focus its analysis. DOE chooses equipment classes as representative primarily because of their high market volumes and/or unique characteristics.

The current energy conservation standards for MHLF are based on 24 equipment classes determined according to performance-related features that provide utility to the consumer, in terms of input voltage, rated lamp wattage, and designation for indoor versus outdoor applications (see 10 CFR 431.326). Specifically, in terms of input voltage, DOE separates equipment classes based on MHLFs with ballasts tested at input voltage of 480 volts (“V”) and those tested at all other input voltages per the DOE test procedure at 10 CFR 431.324. In the analysis for the October 2021 Final Determination, DOE did not directly analyze the equipment classes containing only fixtures with ballasts tested at 480V due to low shipment volumes. DOE did directly analyze equipment classes containing only fixtures with ballasts tested at all input voltages other than 480V. DOE scaled the resulting efficiency levels to develop efficiency levels for equipment classes containing only fixtures with ballasts tested at input voltage of 480V. 86 FR 58763, 58771, 58776. In the October 2022 RFI, DOE requested comment on whether it is necessary to individually analyze all 24 equipment classes identified in the October 2021 Final Determination and also on how the performance of ballasts that are tested at 480V compares to ballasts of the same wattage and indoor/outdoor classification that are in other equipment classes. 87 FR 60560, 60562.

NEMA stated that it is not necessary to individually analyze all 24 equipment classes as the market is changing to more efficient technologies at a rapid pace. NEMA also responded that market requirements do not support extending the rule to equipment classes not directly analyzed in the October 2021 Final Determination (i.e., MH ballasts tested at 480V). (NEMA, No. 2 at pp. 2-3) Further, NEMA commented that comparing the performance of MH ballasts tested at 480V ballasts to their counterparts with the same wattage and indoor/outdoor classification in other equipment classes (i.e., tested at all other voltages) is not economically feasible because of limited demand for MHLFs. NEMA added that efficiency levels are consistent among most multi-voltage high intensity discharge (“HID”) electronic (277-480V) ballasts. (NEMA, No. 2 at p. 4)

DOE notes that equipment classes that were not directly analyzed in the October 2021 Final Determination (i.e., MH ballasts tested at 480V) are already subject to standards (see 10 CFR 431.326). Regarding comparing performance of MH ballasts tested at input voltage of 480V to those tested at other input voltages, in the analysis for the October 2021 Final Determination, DOE was able to identify MH ballasts in DOE's CCD that are tested at 480V and those at other input voltages, with the main difference between the ballasts being the tested input voltage. DOE used these efficiency comparisons to develop scaling factors and applied them to the representative equipment class efficiency level equations to develop corresponding efficiency level equations for ballasts tested at an input voltage of 480V. 86 FR 58763, 58776. DOE continues to find the scaling factors from the October 2021 Final Determination appropriate for this analysis.

E. Shipments

In the October 2021 Final Determination, DOE projected a steady decline in the shipments of MHLFs, consistent with market transition away from MHLFs. 86 FR 58763, 58782-58783. The shipments model was initialized using a time series of historical shipments data compiled from the 2014 MHLF final rule and data from NEMA. The historical shipments for 2008 from the 2014 MHLF final rule were projected to 2020 using NEMA sales indices. Consistent with the 2014 MHLF final rule, DOE assumed an increasing fraction of the MHLF market would move to out-of-scope LED alternatives. DOE modeled the incursion of LED equipment into the MHLF market in the form of a Bass diffusion curve. 86 FR 58763, 58782-58783. DOE's projection resulted in fewer than 1500 shipments of MHLFs by 2030, a decline of more than 99 percent relative to MHLF shipments in 2020; see chapter 9 of the October 2021 Final Determination technical support document.⁶

⁶ Chapter 9 of the October 2021 Final Determination technical support document is available at www.regulations.gov/document/EERE-2017-BT-STD-0016-0017.

In response to the October 2022 RFI, NEMA provided a graphical representation of its HID Lamp Sales Index indicating a continued decline for HID lamps, including metal halides, consistent with DOE's projections. (NEMA, No. 2 at p. 5)

F. Manufacturer Impacts

NEMA commented that because of the reduction in volume of product sales, the internal annual reporting cost burden for manufacturers has increased relative to product sales for the industry as a whole. (NEMA, No. 2 at p. 6) Because DOE is proposing not to amend standards for MHLFs (see section IV for further details), if finalized, the determination would have no impact on manufacturers.

IV. Proposed Determination

As required by EPCA, this NOPD analyzes whether amended standards for MHLFs would result in significant conservation of energy, be technologically feasible, and be cost effective. (42 U.S.C. 6295(m)(1)(A) and 42 U.S.C. 6295(n)(2)) The criteria considered under 42 U.S.C. 6295(m)(1)(A) and the additional analysis are discussed below. Because an analysis of potential cost effectiveness and energy savings first requires an evaluation of the relevant technology, DOE first discusses the technological feasibility of amended standards. DOE then addresses the cost effectiveness and energy savings associated with potential amended standards.

A. Technological Feasibility

EPCA mandates that DOE consider whether amended energy conservation standards for MHLFs would be technologically feasible. (42 U.S.C. 6295(m)(1)(A) and 42 U.S.C. 6295(n)(2)(B)) In the October 2021 Final Determination, DOE concluded that there are technology options that would improve the efficiency of MHLFs. Further, DOE concluded that these technology options are being used in commercially available MHLFs and therefore are technologically feasible. 86 FR 58763, 58791. Because there have been no substantive changes in the MHLF market since the October 2021 Final Determination analysis, DOE has tentatively determined that its conclusions regarding technological feasibility from that analysis remain valid. Hence, DOE has tentatively determined that amended energy conservation standards for MHLFs are technologically feasible.

B. Cost Effectiveness

EPCA requires DOE to consider whether energy conservation standards for MHLFs would be cost effective through an evaluation of the savings in operating costs throughout the estimated average life of the covered product compared to any increase in the price of, or in the initial charges for, or maintenance expenses of, the covered product which is likely to result from the imposition of an amended standard. (42 U.S.C. 6295(m)(1)(A), 42 U.S.C. 6295(n)(2)(C), and 42 U.S.C. 6295(o)(2)(B)(i)(II))

In the October 2021 Final Determination, DOE determined that the average customer purchasing a representative MHLF would experience an increase in LCC at each evaluated standards case as compared to the no-new-standards case. The simple PBP for the average MHLF customer at most ELs was projected to be generally longer than the mean lifetime of the equipment, which further indicates that the increase in installed cost for more efficient MHLFs is not recouped by their associated operating cost savings. The analysis determined that the net present value (“NPV”) benefits at the trial standard levels (“TSLs”) were also negative for all equipment classes at 3-percent and 7-percent discount rates. 86 FR 58763, 58785-58791. Hence, in the October 2021 Final Determination, DOE determined that more stringent amended energy conservation standards for MHLFs cannot satisfy the relevant statutory requirements because such standards would not be cost effective as required under EPCA. 86 FR 58763, 58791 (See 42 U.S.C. 6295(n)(2); 42 U.S.C. 6295(o)(2)(B)(II);) 86 FR 58763, 58791.)

Because there have been no substantive changes in the MHLF market that would affect the conclusions of the October 2021 Final Determination analysis, DOE has tentatively determined that its conclusions regarding the cost effectiveness of more stringent amended energy conservation standards for MHLFs remain valid.

C. Significant Conservation of Energy

EPCA also mandates that DOE consider whether amended energy conservation standards for MHLF would result in significant conservation of energy. (42 U.S.C. 6295(m)(1)(A) and 42 U.S.C. 6295(n)(2)(A))

In the October 2021 Final Determination, having determined that amended energy conservation standards for MHLFs would not be cost-effective, DOE did not further evaluate the significance of the amount of energy conservation under the considered amended standards because it had determined that the potential standards would not be cost-effective as required under EPCA. 86 FR 58763, 58791. (42 U.S.C. 6295(m)(1)(A); 42 U.S.C. 6295(n)(2); 42 U.S.C. 6295(o)(2)(B)). 86 FR 58763, 58791.

As DOE has tentatively determined that amended standards would still not be cost effective, DOE has not evaluated the significance of the projected energy savings from an amended standard.

D. Summary

In this proposed determination, based on the initial determination that amended standards would not be cost effective, DOE has tentatively determined that energy conservation standards for MHLFs do not need to be amended. DOE will consider all comments received on this proposed determination in issuing any final determination.

V. Procedural Issues and Regulatory Review

A. Review Under Executive Orders 12866, 13563, and 14094

Executive Order (“E.O.”) 12866, “Regulatory Planning and Review,” as supplemented and reaffirmed by E.O. 13563, “Improving Regulation and Regulatory Review,” 76 FR 3821 (Jan. 21, 2011) and amended by E.O. 14094, “Modernizing Regulatory Review,” 88 FR 21879 (April 11, 2023), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits (including potential economic, environmental, public health and safety, and other advantages; distributive impacts; and equity); (4) to the extent feasible, specify performance objectives, rather than specifying the behavior or manner of compliance that regulated entities must adopt; and (5) identify and assess available alternatives to direct regulation, including providing economic incentives to encourage the desired behavior, such as user fees or marketable permits, or providing information upon which choices can be made by the public. DOE emphasizes as well that E.O. 13563 requires agencies to use the best available techniques to quantify anticipated present and future benefits and costs as accurately as possible. In its guidance, the Office of Information and Regulatory Affairs (“OIRA”) in the Office of Management and Budget (“OMB”) has emphasized that such techniques may include identifying changing future compliance costs that might result from technological innovation or anticipated behavioral changes. For the reasons stated in the preamble, this proposed regulatory action is consistent with these principles.

Section 6(a) of E.O. 12866 also requires agencies to submit “significant regulatory actions” to OIRA for review. OIRA has determined that this proposed regulatory action does not constitute a “significant regulatory action” within the scope of section 3(f)(1) of E.O. 12866. Accordingly, this action was not submitted to OIRA for review under E.O. 12866.

B. Review Under the Regulatory Flexibility Act

The Regulatory Flexibility Act (5 U.S.C. 601 et seq.) requires preparation of an initial regulatory flexibility analysis (“IRFA”) for any rule that by law must be proposed for public comment, unless the agency certifies that the rule, if promulgated, will not have a significant economic impact on a substantial number of small entities. As required by E.O. 13272, “Proper Consideration of Small Entities in Agency Rulemaking,” 67 FR 53461 (Aug. 16, 2002), DOE published procedures and policies on February 19, 2003, to ensure that the potential impacts of its rules on small entities are properly considered during the rulemaking process. 68 FR 7990. DOE has made its procedures and policies available on the Office of the General Counsel's website (www.energy.gov/gc/office-general-counsel).

DOE reviewed this proposed determination under the provisions of the Regulatory Flexibility Act and the policies and procedures published on February 19, 2003. Because DOE is proposing not to amend standards for MHLFs, if adopted, the determination would not amend any energy conservation standards. On the basis of the foregoing, DOE certifies that the proposed determination, if adopted, would have no significant economic impact on a substantial number of small entities. Accordingly, DOE has not prepared an IRFA for this proposed determination. DOE will transmit this certification and supporting statement of factual basis to the Chief Counsel for Advocacy of the Small Business Administration for review under 5 U.S.C. 605(b).

C. Review Under the Paperwork Reduction Act

This proposed determination, which proposes to determine that amended energy conservation standards for MHLFs are unneeded under the applicable statutory criteria, would impose no new informational or recordkeeping requirements. Accordingly, OMB clearance is not required under the Paperwork Reduction Act. (44 U.S.C. 3501 et seq.)

D. Review Under the National Environmental Policy Act of 1969

DOE is analyzing this proposed action in accordance with the National Environmental Policy Act of 1969 (“NEPA”) and DOE's NEPA implementing regulations (10 CFR part 1021). DOE's regulations include a categorical exclusion for actions which are interpretations or rulings with respect to existing regulations. 10 CFR part 1021, subpart D, appendix A4. DOE anticipates that this action qualifies for categorical exclusion A4 because it is an interpretation or ruling in regards to an existing regulation and otherwise meets the requirements for application of a categorical exclusion. See 10 CFR 1021.410. DOE will complete its NEPA review before issuing the final action.

E. Review Under Executive Order 13132

E.O. 13132, “Federalism,” 64 FR 43255 (Aug. 10, 1999), imposes certain requirements on Federal agencies formulating and implementing policies or regulations that preempt State law or that have federalism implications. The Executive order requires agencies to examine the constitutional and statutory authority supporting any action that would limit the policymaking discretion of the States and to carefully assess the necessity for such actions. The Executive order also requires agencies to have an accountable process to ensure meaningful and timely input by State and local officials in the development of regulatory policies that have federalism implications. On March 14, 2000, DOE published a statement of policy describing the intergovernmental consultation process it will follow in the development of such regulations. 65 FR 13735. DOE has examined this proposed determination and has tentatively determined that it would not have a substantial direct effect on the States, on the relationship between the national government and the States, or on the distribution of power and responsibilities among the various levels of government. EPCA governs and prescribes Federal preemption of State regulations as to energy conservation for the equipment that are the subject of this proposed rule. States can petition DOE for exemption from such preemption to the extent, and based on criteria, set forth in EPCA. (42 U.S.C. 6297) Therefore, no further action is required by E.O. 13132.

F. Review Under Executive Order 12988

With respect to the review of existing regulations and the promulgation of new regulations, section 3(a) of E.O. 12988, “Civil Justice Reform,” imposes on Federal agencies the general duty to adhere to the following requirements: (1) eliminate drafting errors and ambiguity, (2) write regulations to minimize litigation, (3) provide a clear legal standard for affected conduct rather than a general standard, and (4) promote simplification and burden reduction. 61 FR 4729 (Feb. 7, 1996). Regarding the review required by section 3(a), section 3(b) of E.O. 12988 specifically requires that Executive agencies make every reasonable effort to ensure that the regulation: (1) clearly specifies the preemptive effect, if any, (2) clearly specifies any effect on existing Federal law or regulation, (3) provides a clear legal standard for affected conduct while promoting simplification and burden reduction, (4) specifies the retroactive effect, if any, (5) adequately defines key terms, and (6) addresses other important issues affecting clarity and general draftsmanship under any guidelines issued by the Attorney General. Section 3(c) of Executive Order 12988 requires Executive agencies to review regulations in light of applicable standards in section 3(a) and section 3(b) to determine whether they are met or it is unreasonable to meet one or more of them. DOE has completed the required review and determined that, to the extent permitted by law, this proposed determination meets the relevant standards of E.O. 12988.

G. Review Under the Unfunded Mandates Reform Act of 1995

Title II of the Unfunded Mandates Reform Act of 1995 (“UMRA”) requires each Federal agency to assess the effects of Federal regulatory actions on State, local, and Tribal governments and the private sector. Public Law 104-4, sec. 201 (codified at 2 U.S.C. 1531). For a proposed regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a proposed “significant intergovernmental mandate,” and requires an agency plan for giving notice and opportunity for timely input to potentially affected small governments before establishing any requirements that might significantly or uniquely affect them. On March 18, 1997, DOE published a statement of policy on its process for intergovernmental consultation under UMRA. 62 FR 12820. DOE's policy statement is also available at www.energy.gov/sites/prod/files/gcprod/documents/umra_97.pdf.

DOE examined this proposed determination according to UMRA and its statement of policy and determined that the proposed determination does not contain a Federal intergovernmental mandate, nor is it expected to require expenditures of $100 million or more in any one year by State, local, and Tribal governments, in the aggregate, or by the private sector. As a result, the analytical requirements of UMRA do not apply.

H. Review Under the Treasury and General Government Appropriations Act, 1999

Section 654 of the Treasury and General Government Appropriations Act, 1999 (Pub. L. 105-277) requires Federal agencies to issue a Family Policymaking Assessment for any rule that may affect family well-being. This proposed determination would not have any impact on the autonomy or integrity of the family as an institution. Accordingly, DOE has concluded that it is not necessary to prepare a Family Policymaking Assessment.

I. Review Under Executive Order 12630

Pursuant to E.O. 12630, “Governmental Actions and Interference with Constitutionally Protected Property Rights,” 53 FR 8859 (Mar. 15, 1988), DOE has determined that this proposed determination would not result in any takings that might require compensation under the Fifth Amendment to the U.S. Constitution.

J. Review Under the Treasury and General Government Appropriations Act, 2001

Section 515 of the Treasury and General Government Appropriations Act, 2001 (44 U.S.C. 3516 note) provides for Federal agencies to review most disseminations of information to the public under information quality guidelines established by each agency pursuant to general guidelines issued by OMB. OMB's guidelines were published at 67 FR 8452 (Feb. 22, 2002), and DOE's guidelines were published at 67 FR 62446 (Oct. 7, 2002). Pursuant to OMB Memorandum M-19-15, Improving Implementation of the Information Quality Act (April 24, 2019), DOE published updated guidelines which are available at www.energy.gov/sites/prod/files/2019/12/f70/DOE%20Final%20Updated%20IQA%20Guidelines%20Dec%202019.pdf. DOE has reviewed this NOPD under the OMB and DOE guidelines and has concluded that it is consistent with applicable policies in those guidelines.

K. Review Under Executive Order 13211

E.O. 13211, “Actions Concerning Regulations That Significantly Affect Energy Supply, Distribution, or Use,” 66 FR 28355 (May 22, 2001), requires Federal agencies to prepare and submit to the Office of Information and Regulatory Affairs (“OIRA”) at OMB, a Statement of Energy Effects for any proposed significant energy action. A “significant energy action” is defined as any action by an agency that promulgates or is expected to lead to promulgation of a final rule, and that (1) is a significant regulatory action under Executive Order 12866, or any successor Executive Order; and (2) is likely to have a significant adverse effect on the supply, distribution, or use of energy, or (3) is designated by the Administrator of OIRA as a significant energy action. For any proposed significant energy action, the agency must give a detailed statement of any adverse effects on energy supply, distribution, or use should the proposal be implemented, and of reasonable alternatives to the action and their expected benefits on energy supply, distribution, and use.

This proposed determination, which does not propose to amend energy conservation standards for MHLFs, is not a significant regulatory action under Executive Order 12866. Moreover, it would not have a significant adverse effect on the supply, distribution, or use of energy, nor has it been designated as such by the Administrator at OIRA. Accordingly, DOE has not prepared a Statement of Energy Effects.

L. Review Under the Information Quality Bulletin for Peer Review

On December 16, 2004, OMB, in consultation with the Office of Science and Technology Policy (“OSTP”), issued its Final Information Quality Bulletin for Peer Review (“the Bulletin”). 70 FR 2664 (Jan. 14, 2005). The Bulletin establishes that certain scientific information shall be peer reviewed by qualified specialists before it is disseminated by the Federal Government, including influential scientific information related to agency regulatory actions. The purpose of the bulletin is to enhance the quality and credibility of the Government's scientific information. Under the Bulletin, the energy conservation standards rulemaking analyses are “influential scientific information,” which the Bulletin defines as “scientific information the agency reasonably can determine will have, or does have, a clear and substantial impact on important public policies or private sector decisions.” Id. at 70 FR 2667.

In response to OMB's Bulletin, DOE conducted formal peer reviews of the energy conservation standards development process and the analyses that are typically used and has prepared a Peer Review report pertaining to the energy conservation standards rulemaking analyses.⁷ Generation of this report involved a rigorous, formal, and documented evaluation using objective criteria and qualified and independent reviewers to make a judgment as to the technical/scientific/business merit, the actual or anticipated results, and the productivity and management effectiveness of programs and/or projects. Because available data, models, and technological understanding have changed since 2007, DOE has engaged with the National Academy of Sciences to review DOE's analytical methodologies to ascertain whether modifications are needed to improve the Department's analyses. DOE is in the process of evaluating the resulting report.⁸

⁷ “Energy Conservation Standards Rulemaking Peer Review Report.” 2007. Available at www.energy.gov/eere/buildings/downloads/energy-conservation-standards-rulemaking-peer-review-report-0 (last accessed June 26, 2023).

⁸ The report is available at www.nationalacademies.org/our-work/review-of-methods-for-setting-building-and-equipment-performance-standards.

VI. Public Participation

A. Participation in the Webinar

DOE will hold a public webinar upon receiving a request by the deadline identified in the DATES section at the beginning of this proposed determination. Interested persons may submit their request for the public webinar to the Appliance and Equipment Standards Program at MHLF2022STD0023@ee.doe.gov. If a public webinar is requested, DOE will release webinar registration information, participant instructions, and information about the capabilities available to webinar participants on DOE's website: www1.eere.energy.gov/buildings/appliance_standards/standards.aspx?productid=14. Participants are responsible for ensuring their systems are compatible with the webinar software.

B. Procedure for Submitting Prepared General Statements for Distribution

Any person who has an interest in the topics addressed in this NOPD, or who is representative of a group or class of persons that has an interest in these issues, may request an opportunity to make an oral presentation at the webinar. Such persons may submit requests to speak to ApplianceStandardsQuestions@ee.doe.gov. Persons who wish to speak should include with their request a computer file in WordPerfect, Microsoft Word, PDF, or text (ASCII) file format that briefly describes the nature of their interest in this proposed determination and the topics they wish to discuss. Such persons should also provide a daytime telephone number where they can be reached.

DOE requests persons selected to make an oral presentation to submit an advance copy of their statements at least 2 weeks before the webinar. At its discretion, DOE may permit persons who cannot supply an advance copy of their statement to participate, if those persons have made advance alternative arrangements with the Building Technologies Office. As necessary, requests to give an oral presentation should ask for such alternative arrangements.

C. Conduct of the Webinar

DOE will designate a DOE official to preside at the webinar/public meeting and may also use a professional facilitator to aid discussion. The meeting will not be a judicial or evidentiary-type public hearing, but DOE will conduct it in accordance with section 336 of EPCA (42 U.S.C. 6306). A court reporter will be present to record the proceedings and prepare a transcript. DOE reserves the right to schedule the order of presentations and to establish the procedures governing the conduct of the webinar/public meeting. There shall not be discussion of proprietary information, costs or prices, market share, or other commercial matters regulated by U.S. anti-trust laws. After the webinar/public meeting and until the end of the comment period, interested parties may submit further comments on the proceedings and any aspect of the proposed determination.

The webinar/public meeting will be conducted in an informal, conference style. DOE will present summaries of comments received before the webinar/public meeting, allow time for prepared general statements by participants, and encourage all interested parties to share their views on issues affecting this proposed determination. Each participant will be allowed to make a general statement (within time limits determined by DOE), before the discussion of specific topics. DOE will permit, as time permits, other participants to comment briefly on any general statements.

At the end of all prepared statements on a topic, DOE will permit participants to clarify their statements briefly. Participants should be prepared to answer questions by DOE and by other participants concerning these issues. DOE representatives may also ask questions of participants concerning other matters relevant to this proposed determination. The official conducting the webinar/public meeting will accept additional comments or questions from those attending, as time permits. The presiding official will announce any further procedural rules or modification of the above procedures that may be needed for the proper conduct of the webinar/public meeting.

A transcript of the webinar/public meeting will be included in the docket, which can be viewed as described in the Docket section at the beginning of this NOPD. In addition, any person may buy a copy of the transcript from the transcribing reporter.

D. Submission of Comments

DOE will accept comments, data, and information regarding this proposed determination no later than the date provided in the DATES section at the beginning of this proposed rule. Interested parties may submit comments, data, and other information using any of the methods described in the ADDRESSES section at the beginning of this document.

Submitting comments via www.regulations.gov. The www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment itself or in any documents attached to your comment. Any information that you do not want to be publicly viewable should not be included in your comment, nor in any document attached to your comment. Otherwise, persons viewing comments will see only first and last names, organization names, correspondence containing comments, and any documents submitted with the comments.

Do not submit to www.regulations.gov information for which disclosure is restricted by statute, such as trade secrets and commercial or financial information (hereinafter referred to as Confidential Business Information (“CBI”)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email. Comments and documents submitted via email also will be posted to www.regulations.gov. If you do not want your personal contact information to be publicly viewable, do not include it in your comment or any accompanying documents. Instead, provide your contact information in a cover letter. Include your first and last names, email address, telephone number, and optional mailing address. With this instruction followed, the cover letter will not be publicly viewable as long as it does not include any comments.

Include contact information each time you submit comments, data, documents, and other information to DOE. If you submit via postal mail or hand delivery/courier, please provide all items on a CD, if feasible, in which case it is not necessary to submit printed copies. No faxes will be accepted.

Comments, data, and other information submitted to DOE electronically should be provided in PDF (preferred), Microsoft Word or Excel, WordPerfect, or text (ASCII) file format. Provide documents that are not secured, that are written in English, and that are free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email to MHLF2022STD0023@ee.doe.gov two well-marked copies: one copy of the document marked “confidential” including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

E. Issues on Which DOE Seeks Comment

Although DOE welcomes comments on any aspect of this proposal, DOE is particularly interested in receiving comments and views of interested parties concerning its tentative conclusion that because no substantive changes have occurred in the market and technology of MHLFs, the conclusion of the October 2021 Final Determination that amending MHLF standards is not cost effective remains valid.

VII. Approval of the Office of the Secretary

The Secretary of Energy has approved publication of this notification of proposed determination and request for comment.

Signing Authority

This document of the Department of Energy was signed on September 28, 2023, by Jeffrey Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 28, 2023.
Treena V. Garrett,
Federal Register Liaison Officer, U.S. Department of Energy.

[FR Doc. 2023-21834 Filed 10-2-23; 8:45 am]

BILLING CODE 6450-01-P